ENVIRONMENTAL PROTECTION AGENCY

[FRL-7164-2]

Recent Posting to the Applicability Determination Index (ADI) Database System of Agency Applicability Determinations, Alternative Monitoring Decisions, and Regulatory Interpretations Pertaining to Standards of Performance for New Stationary Sources and National Emission Standards for Hazardous Air Pollutants

AGENCY: Environmental Protection Agency (EPA).

ACTION: Notice of availability.

SUMMARY: This notice announces the availability of applicability determinations, alternative monitoring decisions, and regulatory interpretations that EPA has made under the New Source Performance Standards (NSPS) (40 CFR part 60), and the National Emission Standards for Hazardous Air Pollutants (NESHAP) (40 CFR parts 61 and 63).

FOR FURTHER INFORMATION CONTACT: An electronic copy of each complete document posted on the Applicability Determination Index (ADI) database system is available on the Internet through the ADI at: http://cfpub.epa.gov/adi. The document may be located by date, author, subpart, or subject search. For questions about the ADI or this notice, contact Maria Malave at EPA by phone at: (202) 564-7027, or by email at: malave.maria@epa.gov. For technical questions about the individual applicability determinations or monitoring decisions, refer to the contact person identified in the individual documents, or in the absence of a contact person, refer to the author of the document.

SUPPLEMENTARY INFORMATION:

Background

The General Provisions to the NSPS in 40 CFR part 60 and the NESHAP in 40 CFR part 61 provide that a source owner or operator may request a determination of whether certain intended actions constitute the commencement of construction, reconstruction, or modification. EPA's written responses to these inquiries are broadly termed applicability determinations. See 40 CFR 60.5 and 61.06. The NSPS and NESHAP also allow sources to seek permission to use monitoring or recordkeeping which are different from the promulgated requirements. See 40 CFR 60.13(i), 61.14(g), 63.8(b)(1), 63.8(f), and 63.10(f). EPA's written responses to these inquiries are broadly termed alternative monitoring decisions. Further, EPA responds to written inquiries about the broad range of NSPS and NESHAP regulatory requirements as they pertain to a whole source category. These inquiries may pertain, for example, to the type of sources to which the regulation applies, or to the testing, monitoring, recordkeeping or reporting requirements contained in the regulation.

EPA currently compiles EPA-issued NSPS and NESHAP applicability determinations, alternative monitoring decisions, and regulatory interpretations, and posts them on the Applicability Determination Index (ADI) on a quarterly basis. The ADI is an electronic index on the Internet with over one thousand EPA letters and memoranda pertaining to the applicability, monitoring, recordkeeping, and reporting requirements of the NSPS and NESHAP. The letters and memoranda may be searched by date, office of issuance, subpart, citation, control number or by string word searches.

Today's notice comprises a summary of 30 of such documents added to the ADI on January 22, 2002. The subject, author, recipient, and date (header) of each letter and memorandum is listed in this notice, as well as a brief abstract of the letter or memorandum. Complete copies of these documents may be obtained from the ADI at: http://cfpub.epa.gov/adi.

Summary of Headers and Abstracts

The following table identifies the database control number for each document posted on the ADI database system on January 22, 2002; the applicable category; the subpart(s) of 40 CFR parts 60, 61, or 63 (as applicable) covered by the document; and the title of the document which provides a brief description of the subject matter. We have also included an abstract of each document identified with its control number after the table. These abstracts are provided solely to alert the public to possible items of interest and are not intended as substitutes for the full text of the documents.

ADI Determinations Uploaded on Date
Control No. | Category | Subpart(s) | Title
M020001 | MACT | M | Dry Cleaner Major Source Threshold
M020002 | MACT | R | Monitoring Operating Parameter for John Zink Enclosed Flares.
0100077 | NSPS | Dc | Alternative Fuel Usage Recordkeeping Frequency.
0100078 | NSPS | VV | Alternative Monitoring Proposal for Ethylene Glycol Vapor.
0100079 | NSPS | OOO | Applicability to Blast Furnace Slag Crushing and Grinding.
0100080 | NSPS | Db, Dc | Boiler Derate.
0100081 | NSPS | VV, NNN | Design Capacity Exemption.
0100082 | NSPS | Dc | Boiler Derate.
0100083 | NSPS | NNN, RRR | Biological Processes for Ethanol Manufacturing.
0100084 | NSPS | A, NNN, RRR | Review of Alternative Monitoring/Testing Requirements.
0100085 | NSPS | GG | Custom Fuel Monitoring & Alternate Test Method.
0100086 | NSPS | GG | Waiver for Reference Method 20 Oxygen Tracers.
0100087 | NSPS | GG | Alternate Performance Test Method.
0100088 | NSPS | GG | Custom Fuel Monitoring & Nitrogen Waiver.
0100089 | NSPS | GG | Custom Fuel Monitoring & Nitrogen Waiver.
0100090 | NSPS | GG | Custom Fuel Monitoring Schedule.
0100091 | NSPS | GG | Custom Fuel Monitoring & Alternate Test Method.
0100092 | NSPS | GG | Modification to Test Method 20.
0100093 | NSPS | GG | Custom Fuel Monitoring & Alternate Test Method.
0100094 | NSPS | GG | Custom Fuel Monitoring Schedule.
0100095 | NSPS | GG | Custom Fuel Monitoring Schedule.
0100096 | NSPS | GG | Alternate Test Performance Procedure.
0100097 | NSPS | GG | Custom Fuel Monitoring & Alternate Test Method.
0100098 | NSPS | GG | Custom Fuel Monitoring.
0100099 | NSPS | GG | Custom Fuel Monitoring.
0100100 | NSPS | GG | Custom Fuel Monitoring.
0100101 | NSPS | GG | Custom Fuel Monitoring & Alternate Test Method.
0100102 | NSPS | GG | Custom Fuel Monitoring & Alternate Test Method.
0100103 | NSPS | GG | Custom Fuel Monitoring.
0100104 | NSPS | Y | Applicability to Screening Operations.

Abstracts

Abstract for [M020001]

Q1: Will EPA consider a facility that does not have a permit limiting its potential to emit below the major source threshold before the first compliance date of the dry cleaner MACT, Subpart M, an area source if the facility can demonstrate that it maintained its consumption of perc below the major source threshold in the dry cleaner MACT?

A1: Yes. EPA intended that the dry cleaner MACT provide the method for identifying major sources under both the MACT program and Title V. However, the facility must reconcile reported VOC emissions that indicate perc consumption almost double the threshold.

Q2: For a new facility subject to the MACT, Subpart M, does the one-time initial fill count in determining whether the facility is a major source?

A2: No. The initial fill does not indicate perc emissions, since perc has been neither consumed nor emitted.

Abstract for [M020002]

Q. Under MACT standard, Subpart R, what is the required monitored operating parameter for the John Zink enclosed flares?

A: The MACT standard, Subpart R, requires that thermal oxidation systems (e.g., John Zink enclosed flares) monitor temperature for continuous compliance monitoring.

Abstract for [0100077]

Q: A company with a natural gas-fired boiler proposes to record and maintain weekly records of fuel usage, instead of daily records as required by NSPS Subpart Dc, at 40 CFR 60.48c(g). Is this acceptable?

A: Yes. If only natural gas or low sulfur fuel oils are used, compliance with NSPS Subpart Dc, can be adequately verified by keeping fuel usage records less frequently. Based on past determinations, records of fuel usage may be kept on a weekly basis, as proposed, or on a monthly basis as has been approved for other natural gas-fired facilities.

Abstract for [0100078]

Q: A company subject to NSPS Subpart VV, has proposed to conduct quarterly visual inspections of equipment in ethylene glycol vapor service, instead of using Method 21. Since ethylene glycol has a boiling point of approximately 197 degrees centigrade, any vapor escaping from process equipment would quickly condense and form a liquid, making detection by Method 21 less accurate and reliable. Is the use of visual inspections acceptable?

A: Yes. The proposed alternative monitoring is acceptable as a substitute for Method 21.

Abstract for [0100079]

Q: Is a blast furnace slag crushing/grinding operation subject to NSPS Subpart OOO?

A: No. Because slag is not a nonmetallic mineral, the crushing and grinding of slag is not regulated by NSPS Subpart OOO.

Abstract for [0100080]

Q: A boiler derate is proposed for a unit subject to NSPS Subpart Db which will include the replacement of an existing burner with a new burner rated at 95 mm btu/hr. Is the proposed derate acceptable?

A: Yes. The proposed derate is consistent with criteria used in past boiler derates.

Abstract for [0100081]

Q: Does the design capacity exemption provided in NSPS Subparts VV and NNN apply to a process unit at a plant which will produce a product which will contain 50 percent hydrogen cyanide and 50 percent methanol? Hydrogen cyanide will be produced at the facility, but methanol will not be produced. The design capacity for hydrogen cyanide is less than one gigagram per year.

A: Yes. The design capacity for the process unit will be less than the threshold of one gigagram per year. The applicable recordkeeping and reporting requirements of NSPS Subparts VV and NNN will need to be met.

Abstract for [0100082]

Q: A derate method is proposed which will limit the capacity of a boiler by reducing the air volume into the boiler. Will the proposed method be acceptable to comply with NSPS Subpart Dc?

A: Yes. The proposed derate is consistent with criteria used in past boiler derates.

Abstract for [0100083]

Q: Are ethanol manufacturing facilities exempt from the requirements of NSPS Subparts RRR and NNN?

A: EPA has previously determined that ethanol manufacturing facilities may be exempted from NSPS Subparts RRR and NNN on a case-by-case basis. The ethanol facility in question here uses a biological process to ferment the converted starches in corn into ethanol. These Subparts did not envision unit operations for biological processes.

Abstract for [0100084]

Q: Will EPA approve alternative monitoring and waive the requirement for performance testing for boilers and process heaters that are fired with fuel gas containing a vent stream from a facility subject to NSPS Subpart NNN?

A: Yes. EPA will approve the provisions of NSPS Subpart RRR as alternative monitoring to the provisions of NSPS Subpart NNN and waive the requirement for performance testing for boilers and process heaters that are fired with fuel gas containing a vent stream from a facility subject to NSPS Subpart NNN.

Abstract for [0100085]

Q1: Will EPA exempt a new stationary gas turbine facility subject to NSPS Subpart GG from daily nitrogen testing?

A1: Yes. Nitrogen monitoring shall be waived for pipeline quality natural gas, as there is no fuel-bound nitrogen and the free nitrogen does not contribute appreciably to NOX emissions.

Q2: Will EPA approve a custom fuel monitoring schedule for a facility subject to NSPS Subpart GG?

A2: Yes. EPA will approve the custom fuel monitoring schedule according to an August 14, 1987, national policy which allows the EPA Regional offices to approve NSPS Subpart GG custom fuel monitoring schedules on a case-by-case basis.

Q3: Will EPA approve an alternative test method under NSPS Subpart GG?

A3: Yes. In accordance with an April 26, 1999, memorandum from EPA's Office of Air Quality Planning and Standards, “length of stain” detector tubes will be allowed in cases where fuel gas sulfur content is well below the standard level.

Abstract for [0100086]

Q: Will EPA grant a source subject to NSPS Subpart GG, a waiver to Reference Method 20 to allow use of a single multi-hole probe in lieu of oxygen traverses prior to initiating performance tests?

A: Yes. EPA grants the waiver on the basis that information provided indicates that the oxygen concentrations have been uniform within a variation of less than five percent across the two turbine stacks. Also, verbal information indicated that the multi-hole probe flow rate test showed that the sample flow rate through each hole is within plus or minus ten percent of the average through the eight holes at the design flow rate for the probe.

Abstract for [0100087]

Q: Under NSPS Subpart GG, will EPA approve an alternative test method for two gas turbines whose stacks have four sampling ports on one side only?

A: Yes. EPA approves the use of a nine-hole probe in the existing four ports to accomplish a four by nine sample point matrix instead of the required six by six matrix to determine the one of four ports with the lowest oxygen. EPA will also allow the use of a single multi-hole sample probe installed through the port which exhibits the lowest average diluent (oxygen) concentration for the oxygen traverse and the performance tests.

Abstract for [0100088]

Q: Will EPA approve a custom fuel monitoring schedule for a facility subject to NSPS Subpart GG?

A: Yes. EPA will approve the custom fuel monitoring schedule according to an August 14, 1987, national policy which allows the EPA Regional offices to approve Subpart GG custom fuel monitoring schedules on a case-by-case basis.

Abstract for [0100089]

Q: Will EPA approve a custom fuel monitoring schedule for a facility subject to NSPS Subpart GG?

A: Yes. EPA will approve the custom fuel monitoring schedule according to an August 14, 1987, national policy which allows the EPA Regional offices to approve NSPS Subpart GG custom fuel monitoring schedules on a case-by-case basis.

Abstract for [0100090]

Q: Will EPA approve a custom fuel monitoring schedule for a facility subject to NSPS Subpart GG?

A: Yes. EPA will approve the custom fuel monitoring schedule according to an August 14, 1987, national policy which allows the EPA Regional offices to approve NSPS Subpart GG custom fuel monitoring schedules on a case-by-case basis.

Abstract for [0100091]

Q: Will EPA approve a custom fuel monitoring schedule for a facility subject to NSPS Subpart GG?

A: Yes. EPA will approve the custom fuel monitoring schedule according to an August 14, 1987, national policy which allows the EPA Regional offices to approve NSPS Subpart GG custom fuel monitoring schedules on a case-by-case basis.

Abstract for [0100092]

Q: Will EPA approve a request for use of a multi-hole probe as a modification to Reference Method 20 under NSPS Subpart GG?

A: Yes. EPA will approve the request because it believes that the modified method could generate acceptably accurate data as long as the multi-hole probe is designed and conforms to the tests specified in EPA Guideline Document GD-031.

Abstract for [0100093]

Q1: Will EPA approve a custom fuel monitoring schedule for a facility subject to NSPS Subpart GG?

A1: Yes. EPA will approve the custom fuel monitoring schedule according to an August 14, 1987, national policy which allows the EPA Regional offices to approve NSPS Subpart GG custom fuel monitoring schedules on a case-by-case basis.

Q2: Will EPA exempt a new stationary gas turbine facility from daily nitrogen testing under NSPS Subpart GG?

A2: Yes. Nitrogen monitoring shall be waived for pipeline quality natural gas, as there is no fuel-bound nitrogen and the free nitrogen does not contribute appreciably to NOX emissions.

Q3: Will EPA approve an alternative test method under NSPS Subpart GG?

A3: Yes. In accordance with an April 26, 1991, memorandum from EPA's Office of Air Quality Planning and Standards, “length of stain” detector tubes will be allowed in cases where fuel gas sulfur content is well below the standard level.

Abstract for [0100094]

Q: Will EPA approve a custom fuel monitoring schedule for a facility subject to NSPS Subpart GG?

A: Yes. EPA will approve the custom fuel monitoring schedule according to an August 14, 1987, national policy which allows the EPA Regional offices to approve Subpart GG custom fuel monitoring schedules on a case-by-case basis.

Abstract for [0100095]

Q: Will EPA approve a custom fuel monitoring schedule for a facility subject to NSPS Subpart GG?

A: Yes. EPA will approve the custom fuel monitoring schedule according to an August 14, 1987, national policy which allows the EPA Regional offices to approve NSPS Subpart GG custom fuel monitoring schedules on a case-by-case basis.

Abstract for [0100096]

Q: Will EPA approve an alternate test performance procedure for stacks whose sampling ports are located 39 inches rather 60 inches from the top of the stacks?

A: Yes. EPA will approve sampling at 39 inches from the top of the stacks as long as the facility can demonstrate in accordance with Method 1 that there is a consistent stack flow and there is no cyclonic flow.

Abstract for [0100097]

Q1: Will EPA approve a custom fuel monitoring schedule for a facility subject to NSPS Subpart GG?

A1: Yes. EPA will approve the custom fuel monitoring schedule according to an August 14, 1987, national policy which allows the EPA Regional offices to approve Subpart GG custom fuel monitoring schedules on a case-by-case basis.

Q2: Will EPA exempt a new stationary gas turbine facility from daily nitrogen testing under NSPS Subpart GG?

A2: Yes. Nitrogen monitoring shall be waived for pipeline quality natural gas, as there is no fuel-bound nitrogen and the free nitrogen does not contribute appreciably to NOX emissions.

Q3: Under NSPS Subpart GG, will EPA approve an alternate load test procedure for a facility whose permit does not allow operation of turbines below 75% load rate?

A3: Yes. EPA approves testing at four points in the normal operating range between 75% and 100% of peak load.

Abstract for [0100098]

Q: Will EPA approve a custom fuel monitoring schedule for a facility subject to Subpart GG?

A: Yes. EPA will approve the custom fuel monitoring schedule according to an August 14, 1987, national policy which allows the EPA Regional offices to approve NSPS Subpart GG custom fuel monitoring schedules on a case-by-case basis.

Abstract for [0100099]

Q: Under NSPS Subpart GG, will EPA approve a request to eliminate submission of sulfur monitoring data and allow monitoring of sulfur level on a semi-annual basis?

A: Yes. EPA will approve the request. Based on sulfur analyses submitted it appears that the gas used consistently meets the regulatory definition for natural gas. Although it does not appear to be pipeline natural gas, it is very low in sulfur and much cleaner than the sulfur standard of 0.8 percent by weight. The semi-annual monitoring results must be retained by the facility's owner.

Abstract for [0100100]

Q: Will EPA approve a custom fuel monitoring schedule for a facility subject to NSPS Subpart GG?

A: Yes. EPA will approve the custom fuel monitoring schedule according to an August 14, 1987, national policy which allows the EPA Regional offices to approve NSPS Subpart GG custom fuel monitoring schedules on a case-by-case basis.

Abstract for [0100101]

Q1: Under NSPS Subpart GG, will EPA approve a request to waive the requirement to monitor nitrogen content and sulfur content of natural gas on a semi-annual basis?

A1: Yes. EPA will waive nitrogen monitoring for pipeline quality natural gas, as there is no fuel-bound nitrogen and the free nitrogen does not contribute appreciably to NOX emissions. A record shall be maintained documenting a constant supplier or source of fuel. If there is a change in either, the facility must notify EPA.

Q2: Under NSPS Subpart GG, will EPA approve a request to test for fuel sulfur content using the method specified in 40 CFR part 75, appendix D, section 2.3?

A2: Yes. EPA approves the request to use the monitoring requirements for sulfur in 40 CFR part 75. This alternative monitoring method may only be used when pipeline natural gas is the only fuel being burned.

Q3: Under NSPS Subpart GG, will EPA approve a request to determine fuel consumption at full load only as an alternative to testing at four loads where the turbines are not expected to operate below 90%?

A3: Yes. EPA approves the request to use a single load test at full load. However, should the operation fall below 90% of maximum load, then testing at four loads would be required within 60 days of the new operating level.

Abstract for [0100102]

Q: Under NSPS Subpart GG, will EPA grant a waiver of nitrogen content testing and approval of both an alternate monitoring plan and an alternate test method for a turbine that was inadvertently left off an October 1996 request?

A: Yes. EPA will grant the waiver and approvals on the terms of its determination letter of May 1, 1997.

Abstract for [0100103]

Q: Will EPA approve a custom fuel monitoring schedule for a facility subject to NSPS Subpart GG?

A: Yes. EPA will approve the custom fuel monitoring schedule according to an August 14, 1987, national policy which allows the EPA Regional offices to approve Subpart GG custom fuel monitoring schedules on a case-by-case basis.

Abstract for [0100104]

Q: Does NSPS Subpart Y apply to a bulk coal handling operation that operates an ancillary coal screening process to separate coarse coal from fine coal?

A: Yes. NSPS Subpart Y applies to the screening process, the equipment used to transfer coal to and from the screening process, and any equipment used to transfer and load coal for shipment at the source.

Dated: March 22, 2002.
Michael M. Stahl,
Director, Office of Compliance.

[FR Doc. 02-7491 Filed 3-27-02; 8:45 am]

BILLING CODE 6560-50-P